DEPARTMENT OF HEALTH AND HUMAN SERVICES

Food and Drug Administration

21 CFR Part 172

Food Additives Permitted for Direct Addition to Food for Human Consumption

CFR Correction

In Title 21 of the Code of Federal Regulations, parts 170 to 199, revised as of April 1, 2002, on page 31, § 172.133 is corrected by revising paragraphs (b)(2) and (b)(3) to read as follows:

§ 172.133 Dimethyl dicarbonate.

* * * * *

(b) * * *

(2) In ready-to-drink teas in an amount not to exceed 250 parts per million.

(3) In carbonated or noncarbonated, nonjuice-containing (less than or equal to 1 percent juice), flavored or unflavored beverages containing added electrolytes (5-20 milliequivalents/liter sodium ion (Na+) and 3-7 milliequivalents/liter potassium ion (K+)) in an amount not to exceed 250 parts per million.

* * * * *

[FR Doc. 02-55523 Filed 10-29-02; 8:45 am]

BILLING CODE 1505-01-D